DEPARTMENT OF TRANSPORTATION

Office of the Secretary

14 CFR Parts 11, 300, and 302

49 CFR Parts 1, 5, 7, 106, 211, 389, 553, and 601

RIN 2105-AE84

Administrative Rulemaking, Guidance, and Enforcement Procedures

Correction

In rule document 2019-26672, appearing on pages 71714 through 71734, in the issue of Friday, December 27, 2019 make the following correction:

§ 5.25 General.

On page 71726, in the second column, in the footnotes, footnote 8 should read, “ ⁸ See Appendix A to “Memorandum on the Review and Clearance of Guidance Documents,” available at https://cms.dot.gov/sites/dot.gov/files/docs/regulations/328566/gen-counsel-mem-guidance-documentssigned-122018.pdf.”

[FR Doc. C1-2019-26672 Filed 1-10-20; 8:45 am]

BILLING CODE 1301-01-D